DEPARTMENT OF LABOR

Employment and Training Administration

[TA-W-81,546]

Lawson Software, Inc., Including Workers Whose Unemployment Insurance (UI) Wages Were Reported Through Lawson Software Americas, Inc. and Infor, Inc., St. Paul, MN; Including Off-Site Workers From Arizona, Arkansas, California, Colorado, Connecticut, Florida, Illinois, Indiana, Iowa, Kansas, Maine, Maryland, Massachusetts, Michigan, Minnesota, Mississippi, Missouri, Montana, Nevada, New Hampshire, New Jersey, New York, North Carolina, Ohio, Oregon, Pennsylvania, South Carolina, Tennessee, Texas, Utah, Virginia, Washington, and Wisconsin Reporting to St. Paul, MN; Amended Certification Regarding Eligibility To Apply for Worker Adjustment Assistance

In accordance with Section 223 of the Trade Act of 1974, as amended (“Act”), 19 U.S.C. 2273, the Department of Labor issued a Certification of Eligibility to Apply for Worker Adjustment Assistance on June 29, 2012, applicable to workers of Lawson Software, Inc., including workers whose unemployment insurance (UI) wages were reported through Lawson Software Americas, Inc. and Infor, Inc., and including remote workers working from home throughout the United States reporting to St. Paul, Minnesota. The Department's notice of determination was published in the Federal Register on July 18, 2012 (77 FR 42336).

The Department reviewed the certification for workers of the subject firm. The workers are engaged in activities related to the production of software.

New information shows that worker separations occurred involving employees under the control of the subject firm working off-site specifically working in the following states: Arizona, Arkansas, California, Colorado, Connecticut, Florida, Illinois, Massachusetts, Michigan, Minnesota, Mississippi, Missouri, Montana, Nevada, New Hampshire, New Jersey, New York, North Carolina, Ohio, Oregon, Pennsylvania, South Carolina, Tennessee, Texas, Utah, Virginia, Washington, and Wisconsin. The employees support Lawson Software, Inc., including workers whose unemployment insurance (UI) wages were reported through Lawson Software Americas, Inc. and Infor, Inc., St. Paul, Minnesota engaged in activities related to the production of software.

The intent of the Department's certification is to include all workers of the subject firm who were adversely affected by a shift in production of software.

Based on these findings, the Department is amending this certification to include employees of the subject firm's St. Paul, Minnesota facility working off-site in Arizona, Arkansas, California, Colorado, Connecticut, Florida, Illinois, Massachusetts, Michigan, Minnesota, Mississippi, Missouri, Montana, Nevada, New Hampshire, New Jersey, New York, North Carolina, Ohio, Oregon, Pennsylvania, South Carolina, Tennessee, Texas, Utah, Virginia, Washington, and Wisconsin.

The amended notice applicable to TA-W-81,546 is hereby issued as follows:

All workers of Lawson Software, Inc., including workers whose unemployment insurance (UI) wages were reported through Lawson Software Americas, Inc. and Infor, Inc., St. Paul, Minnesota, including off-site workers from Arizona, Arkansas, California, Colorado, Connecticut, Florida, Illinois, Massachusetts, Michigan, Minnesota, Mississippi, Missouri, Montana, Nevada, New Hampshire, New Jersey, New York, North Carolina, Ohio, Oregon, Pennsylvania, South Carolina, Tennessee, Texas, Utah, Virginia, Washington, and Wisconsin reporting to St. Paul, Minnesota who became totally or partially separated from employment on or after April 26, 2011 through June 29, 2014, and all workers in the group threatened with total or partial separation from employment on date of certification through two years from the date of certification, are eligible to apply for adjustment assistance under Chapter 2 of Title II of the Trade Act of 1974, as amended.

Signed in Washington, DC, this 19th day of July 2012.
Elliott S. Kushner,
Certifying Officer, Office of Trade Adjustment Assistance.

[FR Doc. 2012-18410 Filed 7-27-12; 8:45 am]

BILLING CODE 4510-FN-P